FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 010099-068.

Agreement Name: International Council of Containership Operators.

Parties: CMA CGM S.A.; COSCO SHIPPING Co., Ltd.; Crowley Liner Services, Inc.; Evergreen Line Joint Service Agreement; Hapag-Lloyd AG; Hyundai Merchant Marine Co., Ltd.; Maersk A/S; Mediterranean Shipping Company S.A.; Orient Overseas Container Line Limited; Wan Hai Lines Ltd.; Yang Ming Marine Transport Corporation; and Zim Integrated Shipping Services Ltd.

Filing Party: John Longstreth; K&L Gates.

Synopsis: The amendment removes Pacific International Lines (PTE) LTD as a party to the Agreement.

Proposed Effective Date: 4/27/2020.

Location: https://www2.fmc.gov/FMC.Agreements.Web/Public/AgreementHistory/1032.

Agreement No.: 201341.

Agreement Name: King Ocean/Seaboard Trinidad Space Charter Agreement.

Parties: King Ocean Services Limited and Seaboard Marine Ltd.

Filing Party: Wayne Rohde; Cozen O'Connor.

Synopsis: The Agreement authorizes Seaboard to charter space to King Ocean in the trade between Miami and Trinidad.

Proposed Effective Date: 6/12/2020.

Location: https://www2.fmc.gov/FMC.Agreements.Web/Public/AgreementHistory/1032.

Agreement No.: 201342.

Agreement Name: MSC/Maersk SAEC Space Charter.

Parties: Maersk A/S and Mediterranean Shipping Company S.A.

Filing Party: Wayne Rohde; Cozen O'Connor.

Synopsis: The Agreement authorizes MSC to charter space to Maersk in the trade between ports on the U.S. Gulf Coast and ports in Mexico, Panama, Colombia and Brazil.

Proposed Effective Date: 6/14/2020.

Location: https://www2.fmc.gov/FMC.Agreements.Web/Public/AgreementHistory/29496.

Agreement No.: 201343.

Agreement Name: Maersk/MSC UCLA Space Charter Agreement.

Parties: Maersk A/S and Mediterranean Shipping Company S.A.

Filing Party: Wayne Rohde; Cozen O'Connor.

Synopsis: The Agreement authorizes Maersk to charter space to MSC on Maersk's UCLA service in the trade between ports on the U.S. Gulf Coast and ports in Mexico, Panama, Colombia and Brazil.

Proposed Effective Date: 6/14/2020.

Location: https://www2.fmc.gov/FMC.Agreements.Web/Public/AgreementHistory/29497.

Dated: May 1, 2020.
Rachel Dickon,
Secretary.

[FR Doc. 2020-09659 Filed 5-5-20; 8:45 am]

BILLING CODE 6730-02-P